DEPARTMENT OF HEALTH AND HUMAN SERVICES

National Institutes of Health

National Eye Institute; Amended Notice of Meeting

Notice is hereby given of a change in the meeting of the National Eye Institute Special Emphasis Panel, April 20, 2010, 3 p.m., to April 20, 2010, 4 p.m., National Eye Institute, 5635 Fishers Lane, 1300, Bethesda, MD 20892 which was published in the Federal Register on April 21, 2010 Vol 75; Number 76.

The meeting will be held on May 20, 2010, at 2:30 p.m. The meeting is closed to the public.

Dated: April 30, 2010.
Jennifer Spaeth,
Director, Office of Federal Advisory Committee Policy.

[FR Doc. 2010-11049 Filed 5-10-10; 8:45 am]

BILLING CODE 4140-01-M